DEPARTMENT OF HEALTH AND HUMAN SERVICES

Centers for Disease Control and Prevention

[30Day-05-0461X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Sexually Transmitted Diseases Laboratory Test Method Survey—New—National Center for HIV, STD, and TB Prevention (NCHSTP), Centers for Disease Control and Prevention (CDC).

CDC is requesting OMB approval to survey public health laboratories about the volume of testing and type of laboratory testing methods for sexually transmitted diseases (STD). In October 2002, CDC published “Screening Tests to Detect Chlamydia trachomatis and Neisseria gonorrhoeae Infections” (MMWR 2002:51 (No. RR-15)). The purpose of this publication was to provide information for public health laboratories regarding the most effective testing methodologies for Chlamydia trachomatis and Neisseria gonorrhoeae. Because testing practices could affect the resources available to public health departments for STD screening and surveillance programs, it is critical to monitor the capacity and current practices of public health laboratories to appropriately test for these diseases.

The objectives of this proposed data collection are to: (1) Collect information about the volume of and type of testing for chlamydia and gonorrhea performed in laboratories; (2) collect information about antimicrobial susceptibility testing for gonorrhea; and (3) collect information about the volume and type of testing for herpes simplex virus (HSV), syphilis, human papillomavirus (HPV), bacterial vaginosis, and trichomoniasis performed in laboratories. This survey will build on data collected in 2001 by the Association of Public Health Laboratories on laboratory test methods and the volume of testing.

CDC anticipates collecting this data using an on-line survey of 140 public health laboratories. The survey will take approximately 20 minutes to complete; there is no cost to respondents except their time to participate. The annualized burden for this data collection will be 47 hours.

Annualized Burden Table:

Respondents | No. of respondents | Responses per respondent | Average burden per response (in hours)
State labs | 50 | 1 | 20/60
City/County labs | 80 | 1 | 20/60
Other Infertility Prevention Project Labs | 10 | 1 | 20/60

Dated: December 3, 2004.
Alvin Hall,
Director, Management Analysis and Services Office, Centers for Disease Control and Prevention.

[FR Doc. 04-27190 Filed 12-10-04; 8:45 am]

BILLING CODE 4163-18-U